DEPARTMENT OF HOMELAND SECURITY

Coast Guard

33 CFR Part 117

[CGD01-05-100]

Drawbridge Operation Regulations: Connecticut River, CT

AGENCY: Coast Guard, DHS.

ACTION: Notice of temporary deviation from regulations.

SUMMARY: The Commander, First Coast Guard District, has issued a temporary deviation from the drawbridge operation regulations for the Amtrak Old Saybrook-Old Lyme Bridge, mile 3.4, across the Connecticut River, Connecticut. This deviation from the regulations allows the bridge to operate on a fixed schedule for bridge openings from November 21, 2005 through December 22, 2005. This deviation is necessary in order to facilitate necessary scheduled bridge maintenance.

DATES: This deviation is effective from November 21, 2005 through December 22, 2005.

FOR FURTHER INFORMATION CONTACT: Judy Leung-Yee, Project Officer, First Coast Guard District, at (212) 668-7195.

SUPPLEMENTARY INFORMATION: The Old Saybrook-Old Lyme Bridge, at mile 3.4, across the Connecticut River has a vertical clearance in the closed position of 19 feet at mean high water and 22 feet at mean low water. The existing drawbridge operating regulations are listed at 33 CFR 117.205(b).

The owner of the bridge, National Railroad Passenger Corporation (Amtrak), requested a temporary deviation from the drawbridge operating regulations to facilitate scheduled electrical bridge repairs. In order to complete the above repairs the bridge must open on a fixed bridge opening schedule.

This deviation to the operating regulations allows the Old Saybrook-Old Lyme Bridge to operate from November 21, 2005 through December 22, 2005, as follows:

From Monday through Friday, the bridge shall open on signal at 8:15 a.m., 12:15 p.m., and 2:15 p.m., daily. From 4 p.m. through 8 a.m. the bridge shall open on signal after a four-hour advance notice is given by calling the number posted at the bridge.

On Saturday and Sunday, the bridge shall open on signal at 8 a.m., 10 a.m., 1 p.m., and 4 p.m., daily. From 4 p.m. through 8 a.m. the bridge shall open on signal after a four-hour advance notice is given by calling the number posted at the bridge.

The bridge shall open on signal for commercial vessels at any time after a four-hour advance notice is given by calling the number posted at the bridge.

In accordance with 33 CFR 117.35(c), this work will be performed with all due speed in order to return the bridge to normal operation as soon as possible. This deviation from the operating regulations is authorized under 33 CFR 117.35.

Dated: November 4, 2005.
Gary Kassof,
Bridge Program Manager, First Coast Guard District.

[FR Doc. 05-22647 Filed 11-15-05; 8:45 am]

BILLING CODE 4910-15-P